DEPARTMENT OF THE INTERIOR

Fish and Wildlife Service

Proposed Information Collection; Export of Caviar or Meat of Paddlefish or Sturgeon Removed From the Wild

AGENCY: Fish and Wildlife Service, Interior.

ACTION: Notice; request for comments.

SUMMARY: We (Fish and Wildlife Service) will ask the Office of Management and Budget (OMB) to approve the information collection described below. As required by the Paperwork Reduction Act of 1995 and as part of our continuing efforts to reduce paperwork and respondent burden, we invite the general public and other Federal agencies to take this opportunity to comment on this information collection.

DATES: You must submit comments on or before November 20, 2006.

ADDRESSES: Send your comments on the information collection to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this information collection request, contact Hope Grey at one of the addresses above or by telephone at (703) 358-2482.

SUPPLEMENTARY INFORMATION:

I. Abstract

This information collection is associated with regulations implementing the Convention on International Trade in Endangered Species of Wild Fauna and Flora (CITES). CITES regulates international trade in listed species through a system of permits and certificates. The Service assesses permit requests according to criteria in CITES and Federal regulations for the issuance, suspension, revocation, or denial of permits. OMB has approved our current applications for CITES permits and assigned OMB Control Number 1018-0093, which expires June 30, 2007.

We have identified the need to develop a new permit application form specific to permit requests for the export of caviar and/or meat of wild-origin paddlefish and/or U.S. native sturgeon species. In the past, we have used FWS Form 3-200-27 (Export of Wildlife Removed from the Wild) to collect information to allow us to assess such permit requests. However, when using that general form, applicants have had considerable difficulty in understanding what and how to supply the information required. We have developed a new form, FWS Form 3-200-76, to clarify our information collection needs for evaluation of these permit requests.

II. Data

OMB Control Number: None.

Title: Export of Caviar or Meat of Paddlefish or Sturgeon Removed from the Wild, 50 CFR parts 13 and 23.

Service Form Number(s): 3-200-76.

Type of Request: New collection.

Affected Public: Individuals; fishers; commercial dealers/distributors/suppliers and importers/exporters of paddlefish and sturgeon caviar and meat; freight forwarders/brokers; and local, State, tribal, and Federal Governments.

Respondent's Obligation: Required to obtain or retain benefits.

Frequency of Collection: On occasion.

Estimated Number of Respondents: 12.

Estimated Total Annual Responses: 120.

Estimated Time Per Response: 1.5 hours.

Estimated Total Annual Burden Hours: 180.

Estimated Cost to the Public: $17,400. Based on an average rate of $30 per hour, we estimate the dollar value of the annual burden hours to be $5,400. There is a $100 processing fee for each application, for an estimated $12,000 annually.

III. Request for Comments

We invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Your comments in response to this notice are a matter of public record. We will include and/or summarize each comment in our request to OMB for approval of this information collection.

Dated: August 29, 2006.
Hope Grey,
Information Collection Clearance Officer, Fish and Wildlife Service.

[FR Doc. E6-15560 Filed 9-19-06; 8:45 am]

BILLING CODE 4310-55-P